DEPARTMENT OF THE TREASURY

Proposed Collection; Comment Request for Notice 2011-87

ACTION: Notice; correction.

SUMMARY: The Department of the Treasury published a document in the Federal Register on February 9, 2012, inviting comments on a proposed and/or continuing information collection, as required by the Paperwork Reduction Act of 1995, Public Law 104-13 (44 U.S.C. 3506(c)(2)(A)). This document contained incorrect references.

Correction

In the Federal Register of February 9, 2011, in FR Doc. 2012-2980, make the following corrections:

• Page 6858, in the third column, under SUMMARY:, replace “Alabama” with “New York”.

• Page 6858, in the third column, under SUPPLEMENTARY INFORAMTION:, Title: replace “Alabama” with “New York”.

• Page 6859, in the first column, fourth line of text beginning with “caused by”, replace “caused by severe storms, tornadoes, straight-line winds and flooding in Alabama beginning on April 15, 2011.” with “in the State of New York caused by either Hurricane Irene during the period of August 26, 2011, to September 5, 2011, or the remnants of Tropical Storm Lee during the period of September 7, 2011, to September 11, 2011.”

• Page 6859, in the first column, under Estimated Number of Respondents:, replace “600” with “1,200”.

• Page 6859, in the first column, under Estimated Total Annual Burden Hours:, replace “150” with “300”.

Dated: March 20, 2012.
Dawn D. Wolfgang,
Treasury PRA Clearance Officer.

[FR Doc. 2012-7082 Filed 3-23-12; 8:45 am]

BILLING CODE 4830-01-P